DEPARTMENT OF TRANSPORTATION

Federal Railroad Administration

[Docket No. FRA-2026-0036]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before March 31, 2026.

ADDRESSES: Written comments and recommendations for the proposed ICR should be submitted on https://www.regulations.gov to Docket No. FRA-2026-0036. All comments received will be posted without change to the docket, including any personal information provided. Please refer to the assigned OMB control number (2130-0523) in any correspondence submitted. FRA will summarize comments received in response to this notice in a subsequent notice, made available to the public, and include them in its information collection submission to OMB for approval.

FOR FURTHER INFORMATION CONTACT: Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Rear End Marking Devices.

OMB Control Number: 2130-0523.

Abstract: 49 CFR part 221 contains requirements for rear end marking devices, which are subject to FRA approval. Railroads must provide FRA with a detailed description of the type of marking devices used for any locomotive operating singly or for cars or locomotives operating at the end of a train (trailing end) to ensure that they meet minimum standards for visibility and display. Specifically, part 221 requires railroads to furnish a certification that each device has been tested in accordance with current “Guidelines for Testing of Rear End Marking Devices.” In addition, part 221 requires railroads to furnish detailed test records, which include the names of testing organizations, test descriptions, number of samples tested, and the test results, to demonstrate compliance with the performance requirements in this part.

In this 60-day notice, FRA made no changes to the previously approved burden hours or responses.

Type of Request: Extension without change of a currently approved collection.

Affected Public: Businesses.

Form(s): N/A.

Respondent Universe: 754 railroads and 30 manufacturers.

Frequency of Submission: On occasion.

Reporting Burden
CFR | Respondent universe | Total annual responses | Average time per response (hours) | Total annual burden hours | Wage rate ¹ | Total cost equivalent U.S.D
|  | (A) | (B) | (A * B = C) |  | (D = C * wage rate)
Appendix A to Part 221—Procedures for Approval of Rear End Marking Devices
—Approval of marking devices in accordance with appendix procedures | 754 railroads 30 manufacturers | 2 submissions & records | 1 | 2 | $90.19 | $180.38
Total | 754 railroads 30 manufacturers | 2 responses |  | 2 |  | 180.38
¹ Surface Transportation Board (STB), Quarterly Wage Form A&B Data (2024). Compiled from Class I railroad data reported on Wage Form A&B for year 2024. Calculated as: Wage ($/hour) = sum of compensation for time worked and paid for straight time rates ($) for Class I railroads ÷ sum of service hours for time worked and paid for straight time rates (hours) for Class I railroads. Available: https://www.stb.gov/reports-data/economic-data/quarterly-wage-ab-data/. Using employee group 200 (Professional and Administrative) hourly wage rate of $51.54 multiplied by 1.75 gives a total burdened wage rate of $90.19.

Total Estimated Annual Responses: 2.

Total Estimated Annual Burden: 2 hours.

Total Estimated Annual Burden Hour Dollar Cost Equivalent: $180.38.

FRA informs all interested parties that it may not conduct or sponsor, and a respondent is not required to respond to, a collection of information that does not display a currently valid OMB control number.

Authority: 44 U.S.C. 3501-3520.

Christopher S. Van Nostrand,
Deputy Chief Counsel.

[FR Doc. 2026-01854 Filed 1-29-26; 8:45 am]

BILLING CODE 4910-06-P